DEPARTMENT OF THE INTERIOR

Fish and Wildlife Service

[FWS-R4-ES-2016-N126; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by August 31, 2016.

ADDRESSES: Documents and other information submitted with the applications are available for review, subject to the requirements of the Privacy Act and Freedom of Information Act, by any party who submits a written request for a copy of such documents to the following office within 30 days of the date of publication of this notice: U.S. Fish and Wildlife Service, Ecological Services, 1875 Century Boulevard, Suite 200, Atlanta, GA 30345 (Attn: Karen Marlowe, Acting Permit Coordinator).

FOR FURTHER INFORMATION CONTACT: Karen Marlowe, Acting 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 40523A-1

Applicant: David H. Nelson, University of South Alabama, Mobile, AL.

The applicant requests renewal and amendment of his current permit to add authorization to take (draw blood) for DNA analyses and continue take (trap, hand-capture, collect tail snips, measure, mark, and attach scientific devices) of Alabama red-bellied turtles (Pseudemys alabamensis) in Alabama and Mississippi for scientific research purposes.

Permit Application Number: TE 060988-3

Applicant: Fort Jackson, Department of the Army, Fort Jackson, SC.

The applicant requests renewal of the current permit to continue take (construct and monitor nest cavities and restrictors, capture, band, and translocate) red-cockaded woodpeckers (Picoides borealis) at Fort Jackson, South Carolina, and as directed by the U.S. Fish and Wildlife Service for enhancement of propagation and survival of the species.

Permit Application Number: TE 31141A-2

Applicant: Tennessee Wildlife Resources Agency, Nashville, TN.

The applicant requests renewal of the current permit to continue take (humane euthanasia) of gray bats (Myotis grisescens) and Indiana bats (Myotis sodalis) for white-nose syndrome surveillance and testing purposes.

Permit Application Number: TE 009638-11

Applicant: Appalachian Technical Services, Inc., Wise, VA.

The permittee requests amendment of their current permit to add authorization to take (capture, handle, identify, mark, and release) Big Sandy crayfish (Cambarus callainus), Guyandotte crayfish (Cambarus veteranus), clubshell (Pleurobema clava), Cumberland elktoe (Alasmidonta atropurpurea), fluted kidneyshell (Ptychobranchus subtentum), sheepnose mussel (Plethobasus cyphyus), snuffbox mussel (Epioblasma triquetra), slabside pearlymussel (Pleuronaia dolabelloides), orangefoot pimpleback (Plethobasus cooperianus), fat pocketbook (Potamilus capax), purple cat's paw (Epioblasma obliquata obliquata), rabbitsfoot (Quadrula cylindrica ssp. cylindrica), northern riffleshell (Epioblasma torulosa rangiana), ring pink (Obovaria retusa), and Cumberlandian combshell (Epioblasma brevidens) and take (capture via seining and electroshocking, handle, identify, and release) Kentucky arrow darter (Etheostoma sagitta spilotum) for presence/absence surveys in Kentucky, Tennessee, Virginia, and West Virginia.

Permit Application Number: TE 42183A-1

Applicant: Eglin Air Force Base, Niceville, FL.

The applicant requests renewal of the current permit to continue continue take (construct and monitor nest cavities and restrictors, capture, band, and translocate) red-cockaded woodpeckers (Picoides borealis) at Eglin Air Force Base and as directed by the U.S. Fish and Wildlife Service for enhancement of propagation and survival of the species.

Permit Application Number: TE 00868C-0

Applicant: Fred C. Shaffner, University of Turabo, Gurabo, PR.

The applicant requests a permit to take (capture with mist-nets, band, and release) Puerto Rican nightjar (Caprimulgus noctitherus) and yellow-shouldered blackbird (Agelaius xanthomus) for presence/absence surveys and to mark birds for future population monitoring purposes.

Permit Application Number: TE 33465A-1

Applicant: U.S. Forest Service, Montgomery, AL.

The applicant requests renewal of the current permit to continue take (construct and monitor nest cavities and restrictors, capture, band, and translocate) red-cockaded woodpeckers (Picoides borealis) on national forests in the State of Alabama and as directed by the U.S. Fish and Wildlife Service for enhancement of propagation and survival of the species.

Permit Application Number: TE 824723-9

Applicant: Reed Bowman, Archbold Biological Station, Lake Placid, FL.

The applicant requests renewal of the current permit to continue take (construct and monitor nest cavities and restrictors, capture, band, draw blood, salvage nonviable eggs, and translocate) red-cockaded woodpeckers (Picoides borealis), take (capture, band, radio-tag, draw blood, take feathers, treat with Ivermectin) Florida scrub jays (Aphelocoma coerulescens), and take (capture, band, draw blood, salvage unhatched eggs) Florida grasshopper sparrow (Ammodramus savannarum floridanus) in Florida for scientific research purposes.

Dated: July 22, 2016.
Steven Bekkerus,
Acting Deputy Assistant Regional Director, Ecological Services, Southeast Region.

[FR Doc. 2016-18180 Filed 7-29-16; 8:45 am]

BILLING CODE 4333-15-P